NUCLEAR REGULATORY COMMISSION

Notice of Extension of the Public Comment Period for the Draft Supplement to the Final Generic Environmental Impact Statement on Decommissioning of Nuclear Facilities

Notice is hereby given that the U.S. Nuclear Regulatory Commission (the Commission) has extended the public comment period for draft Supplement 1 to NUREG-0586, “Final Generic Environmental Impact Statement on Decommissioning of Nuclear Facilities [GEIS],” dealing with decommissioning of nuclear power reactors. The public comment period is extended to January 30, 2002.

The draft supplement to the GEIS is available electronically through the NRC's Public Electronic Reading Room (PERR) found on the Internet at the following web address: http://www.nrc.gov/reading-rm.html. From this site, the public can gain access to the NRC's Agencywide Document Access and Management Systems (ADAMS), which provides text and image files of NRC's public documents. The draft report can also be examined, or copied for a fee, at the NRC's Public Document Room found at One White Flint North, 11555 Rockville Pike (first floor), Rockville, MD. If you do not have access to ADAMS or if there are problems in accessing the documents located in ADAMS, contact the NRC Public Document Room (PDR) Reference staff at 1-800-397-4209, or 301-415-4737, or by e-mail to pdr@nrc.gov.

Any interested party may submit comments on the draft supplement to the GEIS for consideration by the NRC staff. To be certain of consideration, comments on the draft supplement to the GEIS and the proposed action must be received by January 30, 2002. Comments received after the due date will be considered if it is practical to do so, but the NRC staff is able to assure consideration only for comments received on or before this date. Written comments on the draft supplement to the GEIS should be sent to: Chief, Rules and Directives Branch, Division of Administrative Services, Mailstop T 6 D 59, U.S. Nuclear Regulatory Commission, Washington, DC 20555-0001.

Comments may be hand-delivered to the NRC at 11545 Rockville Pike, Rockville, Maryland, between 7:45 a.m. and 4:15 p.m. on Federal workdays. Comments may be submitted electronically to the NRC to the e-mail address dgeis@nrc.gov. All comments received by the NRC, including those made by Federal, State, and local agencies; Indian tribes; or other interested persons, will be accessible electronically through NRC's PERR link listed above, and can be examined, or copied for a fee, at the NRC's Public Document Room in Rockville, Maryland.

To ensure timely receipt of comments, electronic submittal of comments is preferred because of the extended times now being routinely encountered for the safe processing and delivery of first class mail to the NRC. If comments are sent via first class mail, commenters are requested to contact Dr. Michael T. Masnik by telephone at (301) 415-1191, or through the NRC operator at (800) 368-5642, to inform him that comments have been submitted by mail.

FOR FURTHER INFORMATION, CONTACT: Dr. Michael T. Masnik, Environmental Section, License Renewal and Environmental Impacts Program, Division of Regulatory Improvement Programs, U.S. Nuclear Regulatory Commission, Washington, DC 20555. Dr. Masnik may be contacted at the aforementioned telephone number or e-mail address.

Dated at Rockville, Maryland, this 11th day of January, 2002.
For the Nuclear Regulatory Commission.
Andrew J. Kugler,
Acting Chief, Environmental Section, License Renewal and Environmental Impacts Program, Division of Regulatory Improvement Programs, Office of Nuclear Reactor Regulation.

[FR Doc. 02-1070 Filed 1-14-02; 8:45 am]

BILLING CODE 7590-01-P